DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Spring 2021

AGENCY: Office of the Secretary, USDA.

ACTION: Semiannual regulatory agenda.

SUMMARY: This agenda provides summary descriptions of significant and not significant regulations being developed in agencies of the U.S. Department of Agriculture (USDA) in conformance with Executive Orders (E.O.) 12866, “Regulatory Planning and Review,” and 13563, “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with Executive Order 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

FOR FURTHER INFORMATION CONTACT: For further information on any specific entry shown in this agenda, please contact the person listed for that action. For general comments or inquiries about the agenda, please contact Mr. Michael Poe, Office of Budget and Program Analysis, U.S. Department of Agriculture, Washington, DC 20250, (202) 720-3257.

Dated: March 31, 2021.
Michael Poe,
Legislative and Regulatory Staff.

Agricultural Marketing Service—Proposed Rule Stage
Sequence No. | Title | Regulation Identifier No.
1 | Poultry Grower Ranking Systems | 0581-AE03
2 | Clarification of Scope of the Packers and Stockyards Act | 0581-AE04
3 | Unfair Practices in Violation of the Packers and Stockyards Act | 0581-AE05

Agricultural Marketing Service—Final Rule Stage
Sequence No. | Title | Regulation Identifier No.
4 | Dairy Donation Program (AMS-DA-21-0013) | 0581-AE00

Agricultural Marketing Service—Long-Term Actions
Sequence No. | Title | Regulation Identifier No.
5 | NOP; Strengthening Organic Enforcement (AMS-NOP-17-0065) | 0581-AD09
6 | National Organic Program—Organic Aquaculture Standards | 0581-AD34
7 | NOP; Inert Ingredients in Pesticides for Organic Production (AMS-NOP-21-0008) | 0581-AE02

Agricultural Marketing Service—Completed Actions
Sequence No. | Title | Regulation Identifier No.
8 | Undue and Unreasonable Preferences and Advantages Under the Packers and Stockyards Act (AMS-FTTP-18-0101) | 0581-AD81
9 | Establishment of a Domestic Hemp Production Program (AMS-SC-19-0042) | 0581-AD82

Animal and Plant Health Inspection Service—Proposed Rule Stage
Sequence No. | Title | Regulation Identifier No.
10 | Handling of Animals; Contingency Plans | 0579-AC69
11 | Animal Disease Traceability; Electronic Identification | 0579-AE64

Animal and Plant Health Inspection Service—Final Rule Stage
Sequence No. | Title | Regulation Identifier No.
12 | Bovine Spongiform Encephalopathy and Scrapie; Importation of Small Ruminants and Their Germplasm, Products, and Byproducts | 0579-AD10

Animal and Plant Health Inspection Service—Long-Term Actions
Sequence No. | Title | Regulation Identifier No.
13 | Importation of Fresh Citrus Fruit From the Republic of South Africa Into the Continental United States | 0579-AD95
14 | Horse Protection; Licensing of Designated Qualified Persons and Other Amendments | 0579-AE19
15 | National List of Reportable Animal Diseases | 0579-AE39
16 | Requiring Microchipping, Verifiable Signatures, Government Official Endorsement, and Mandatory Forms for Importation of Live Dogs | 0579-AE58

Animal and Plant Health Inspection Service—Completed Actions
Sequence No. | Title | Regulation Identifier No.
17 | Animal Welfare: Marine Mammals; Nonconsensus Language and Interactive Programs | 0579-AB24
18 | Removal of Emerald Ash Borer Domestic Quarantine Regulations | 0579-AE42

Food and Nutrition Service—Proposed Rule Stage
Sequence No. | Title | Regulation Identifier No.
19 | Strengthening Integrity and Reducing Retailer Fraud in the Supplemental Nutrition Assistance Program (SNAP) | 0584-AE71
20 | Special Supplemental Nutrition Program for Women, Infants and Children (WIC): WIC Online Ordering and Transactions | 0584-AE85

Food and Nutrition Service—Long-Term Actions
Sequence No. | Title | Regulation Identifier No.
21 | National School Lunch and School Breakfast Programs: School Food Service Account Revenue Amendments Related to the Healthy, Hunger-Free Kids Act of 2010 | 0584-AE11
22 | Modernizing Supplemental Nutrition Assistance Program (SNAP) Benefit Redemption Systems | 0584-AE37
23 | Supplemental Nutrition Assistance Program (SNAP): Electronic Benefits Transfer Requirements for Scanning and Product-Lookup Technology | 0584-AE39
24 | National School Lunch and School Breakfast Programs: Nutrition Standards for All Foods Sold in School, as Required by the Healthy, Hunger-Free Kids Act of 2010 | 0584-AE55
25 | Providing Regulatory Flexibility for Retailers in the Supplemental Nutrition Assistance Program (SNAP) | 0584-AE61

Forest Service—Long-Term Actions
Sequence No. | Title | Regulation Identifier No.
26 | Special Uses—Communications Uses Rent | 0596-AD43

DEPARTMENT OF AGRICULTURE (USDA)

Agricultural Marketing Service (AMS)

Proposed Rule Stage

1. • Poultry Grower Ranking Systems

Legal Authority: 7 U.S.C. 181 to 229c

Abstract: The U.S. Department of Agriculture's Agricultural Marketing Service proposes to amend the regulations issued under the Packers and Stockyards Act (P&S Act) to address the use of poultry grower ranking systems as a method of payment and settlement grouping for poultry growers under contract in poultry growing arrangements with live poultry dealers. The proposed regulation would establish certain requirements with which a live poultry dealer must comply if a poultry grower ranking system is utilized to determine grower payment. A live poultry dealer's failure to comply would be deemed an unfair, unjustly discriminatory, and deceptive practice.

Timetable:

Action | Date | FR Cite
NPRM | 11/00/21

Regulatory Flexibility Analysis Required: Yes.

Agency Contact: Michael V. Durando, Deputy Administrator, Fair Trade Practices Program, Department of Agriculture, Agricultural Marketing Service, 1400 Independence Avenue SW, Washington, DC 20250-0237, Phone: 202 720-0219.

RIN: 0581-AE03

2. • Clarification of Scope of the Packers and Stockyards Act

Legal Authority: 7 U.S.C. 181 to 229c

Abstract: USDA proposes to revise the regulations issued under the Packers and Stockyards Act (Act) (7 U.S.C. 181 229c) to provide clarity regarding conduct that may violate the Act. This action is intended to support market growth, assure fair trade practices and competition, and protect livestock and poultry growers and producers. The proposed rule addresses long-standing issues related to competitiveness and whether all allegations of violations of the Act must be accompanied by a showing of harm or likely harm to competition.

Timetable:

Action | Date | FR Cite
NPRM | 11/00/21

Regulatory Flexibility Analysis Required: Yes.

Agency Contact: Michael V. Durando, Deputy Administrator, Fair Trade Practices Program, Department of Agriculture, Agricultural Marketing Service, 1400 Independence Avenue SW, Washington, DC 20250-0237, Phone: 202 720-0219.

RIN: 0581-AE04

3. • Unfair Practices in Violation of the Packers and Stockyards Act

Legal Authority: 7 U.S.C. 181 to 229c

Abstract: USDA proposes to supplement a recent revision to regulations issued under the Packers and Stockyards Act (Act) (7 U.S.C. 181 229c) that provided criteria for the Secretary to consider when determining whether certain conduct or action by packers, swine contractors, or live poultry dealers is unduly or unreasonably preferential or advantageous. The proposed supplemental amendments would clarify the conduct the Department considers unfair, unjustly discriminatory, or deceptive and a violation of sections 202(a) and (b) of the Act. USDA would also clarify the criteria and types of conduct that would be considered unduly or unreasonably preferential, advantageous, prejudicial, or disadvantageous and violations of the Act.

Timetable:

Action | Date | FR Cite
NPRM | 11/00/21 |

Regulatory Flexibility Analysis Required: Yes.

Agency Contact: Michael V. Durando, Deputy Administrator, Fair Trade Practices Program, Department of Agriculture, Agricultural Marketing Service, 1400 Independence Avenue SW, Washington, DC 20250-0237, Phone: 202 720-0219.

RIN: 0581-AE05

DEPARTMENT OF AGRICULTURE (USDA)

Agricultural Marketing Service (AMS)

Final Rule Stage

4. • Dairy Donation Program (AMS-DA-21-0013)

Legal Authority: Pub. L. 116-260, sec. 762

Abstract: The Dairy Donation Program rulemaking will comply with Consolidated Appropriations Act of 2021 mandates. Dairy Donation Program will implement a voluntary program that will reimburse eligible dairy organizations for milk used to make eligible dairy products donated to non-profit groups for distribution to low-income persons.

Timetable:

Action | Date | FR Cite
Interim Final Rule | 06/00/21

Regulatory Flexibility Analysis Required: Yes.

Agency Contact: Erin Taylor, Acting Director, Order Formulation and Enforcement Division, Department of Agriculture, Agricultural Marketing Service, Dairy Program, 1400 Independence Avenue SW, Room 2969-S, Washington, DC 20250, Phone: 202 720-7311, Email: erin.taylor@ams.usda.gov.

RIN: 0581-AE00

DEPARTMENT OF AGRICULTURE (USDA)

Agricultural Marketing Service (AMS)

Long-Term Actions

5. NOP; Strengthening Organic Enforcement (AMS-NOP-17-0065)

Legal Authority: 7 U.S.C. 6501

Abstract: The Strengthening Organic Enforcement (SOE) rulemaking will address 2018 Farm Bill mandates. In summary, SOE will follow requirements that align with the Farm Bill:

• Limiting the types of operations in the organic supply chain that are not required to obtain organic certification;

• Imported organic products must be accompanied by an electronic import certificate to validate organic status;

• Import certificates will be submitted to the U.S. Customs and Border Protection's Automated Commercial Environment (ACE);

• Certifying agents must notify USDA within 90 days of the opening of any new office that conducts certification activities; and,

• Entities acting on behalf of certifying agents may be suspended when there is noncompliant activity.

Timetable:

Action | Date | FR Cite
Proposed Rule | 08/05/20 | 85 FR 47536
Comment Period End | 10/05/20 |
Final Rule | To Be Determined

Regulatory Flexibility Analysis Required: Yes.

Agency Contact: Jennifer Tucker, Phone: 202 260-8077.

RIN: 0581-AD09

6. National Organic Program—Organic Aquaculture Standards

Legal Authority: 7 U.S.C. 6501 to 6522

Abstract: This action proposes to establish standards for organic production and certification of farmed aquatic animals and their products in the USDA organic regulations. This action would also add aquatic animals as a scope of certification and accreditation under the National Organic Program (NOP).

Timetable: Next Action Undetermined.

Regulatory Flexibility Analysis Required: Yes.

Agency Contact: Jennifer Tucker, Phone: 202 260-8077.

RIN: 0581-AD34

7. • NOP; Inert Ingredients in Pesticides for Organic Production (AMS-NOP-21-0008)

Legal Authority: 7 U.S.C. 6501 to 6524

Abstract: This Advanced Notice of Proposed Rulemaking (ANPR) requests comments on options for replacing outdated references in USDA's organic regulations to U.S. Environmental Protection Agency (EPA) policy on inert ingredients in pesticides. Inerts, also known as other ingredients, are any substances other than the active ingredient that are intentionally added to pesticide products. The references to outdated EPA policy appear in the USDA organic regulations in the National List of Allowed and Prohibited Substances (National List) and identify the inert ingredients allowed in pesticides for organic production.

Timetable:

Action | Date | FR Cite
ANPRM | To Be Determined

Regulatory Flexibility Analysis Required: Yes.

Agency Contact: Jennifer Tucker, Deputy Administrator, USDA National Organic Program, Department of Agriculture, Agricultural Marketing Service, 1400 Independence Avenue SW, Washington, DC 20250, Phone: 202 260-8077.

RIN: 0581-AE02

DEPARTMENT OF AGRICULTURE (USDA)

Agricultural Marketing Service (AMS)

Completed Actions

8. Undue and Unreasonable Preferences and Advantages Under the Packers and Stockyards Act (AMS-FTTP-18-0101)

Legal Authority: Pub. L. 110-234

Abstract: This final rule amended the regulations issued under the Packers and Stockyards Act (P&S Act) by adding new regulations that specify the criteria the Secretary could consider in determining whether conduct or action by packers, swine contractors, or live poultry dealers constitutes an undue or unreasonable preference or advantage and a violation of the P&S Act.

Completed:

Reason | Date | FR Cite
Final Rule | 12/11/20 | 85 FR 79779
Effective | 01/11/21

Regulatory Flexibility Analysis Required: Yes.

Agency Contact: Michael V. Durando, Phone: 202 720-0219.

RIN: 0581-AD81

9. Establishment of a Domestic Hemp Production Program (AMS-SC-19-0042)

Legal Authority: 7 U.S.C. 1621

Abstract: This action added new part 990 establishing rules and regulations for the domestic production of hemp. This action implemented provisions of the Agriculture Improvement Act of 2018 (Farm Bill).

Completed:

Reason | Date | FR Cite
Reopening of Comment Period End | 10/08/20
Final Rule | 01/19/21 | 86 FR 5596
Final Rule Effective | 03/22/21

Regulatory Flexibility Analysis Required: Yes.

Agency Contact: Sonia Jimenez, Phone: 202 720-4722, Email: sonia.jimenez@usda.gov.

RIN: 0581-AD82

BILLING CODE 3410-02-P

DEPARTMENT OF AGRICULTURE (USDA)

Animal and Plant Health Inspection Service (APHIS)

Proposed Rule Stage

10. Handling of Animals; Contingency Plans

Legal Authority: 7 U.S.C. 2131 to 2159

Abstract: The Animal and Plant Health Inspection Service issued a final rule on December 31, 2012, to establish regulations under which research facilities and dealers, exhibitors, intermediate handlers, and carriers must meet certain requirements for contingency planning and training of personnel. Implementation of the final rule was stayed on July 31, 2013, so that the agency could conduct additional review to further consider the impact of contingency plan requirements on regulated entities. Since that time, we have conducted such a review, and the 2021 Congressional Appropriations Act has required us to propose to lift the stay. We are therefore proposing to lift the stay and make minor revisions to the requirements in order to update compliance dates and clarify intent. The lifting of the stay and proposed revisions would better ensure that entities responsible for animals regulated under the Animal Welfare Act are prepared to safeguard the health and welfare of such animals in the event of possible emergencies or disasters.

Timetable:

Action | Date | FR Cite
NPRM | 10/23/08 | 73 FR 63085
NPRM Comment Period End | 12/22/08
NPRM Comment Period Extended | 12/19/08 | 73 FR 77554
NPRM Comment Period Extended End | 02/20/09
Final Rule | 12/31/12 | 77 FR 76815
Final Rule Effective | 01/30/13
Final Rule—Stay of Regulations | 07/31/13 | 78 FR 46255
Final Rule Effective—Stay of Regulations | 07/31/13
NPRM | 06/00/21

Regulatory Flexibility Analysis Required: Yes.

Agency Contact: Elizabeth Theodorson, Assistant Deputy Administrator, Animal Care, Department of Agriculture, Animal and Plant Health Inspection Service, 4700 River Road, Unit 86, Riverdale, MD 20737, Phone: 970 494-7473.

RIN: 0579-AC69

11. • Animal Disease Traceability; Electronic Identification

Legal Authority: 7 U.S.C. 8301, et seq.

Abstract: This action would amend APHIS' animal disease traceability regulations, currently codified at 9 CFR part 86. The primary proposed change would require that beginning January 1, 2023, APHIS would only recognize identification devices (e.g., eartags) as official identification for cattle and bison covered by the regulations if the devices have both visual and electronic readability (EID). Other proposed changes are intended to clarify language and requirements in several sections of part—86. These changes would enhance the U.S. traceability system to better achieve goals of rapidly tracing diseased and exposed animals and containing outbreaks.

Timetable:

Action | Date | FR Cite
NPRM | 01/00/22

Regulatory Flexibility Analysis Required: Yes.

Agency Contact: Dr. Aaron Scott Ph.D., DACVPM, Director, Department of Agriculture, Animal and Plant Health Inspection Service, National Animal Disease Traceability and Veterinary Accreditation Center, APHIS Veterinary Services Strategy and Policy, 2150 Centre Avenue, Building B (Mail Stop 3E87), Fort Collins, CO 80526, Phone: 970 494-7249, Email: traceability@usda.gov).

RIN: 0579-AE64

DEPARTMENT OF AGRICULTURE (USDA)

Animal and Plant Health Inspection Service (APHIS)

Final Rule Stage

12. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: We are amending the regulations governing the importation of animals and animal products to revise conditions for the importation of live sheep, goats, and certain other non-bovine ruminants, and products derived from sheep and goats, with regard to transmissible spongiform encephalopathies such as bovine spongiform encephalopathy (BSE) and scrapie. We are removing BSE-related import restrictions on sheep and goats and most of their products and adding import restrictions related to transmissible spongiform encephalopathies for certain wild, zoological, or other non-bovine ruminant species. The conditions we are adopting for the importation of specified commodities are based on internationally accepted scientific literature and will, in general, align our regulations with guidelines established in the World Organization for Animal Health's Terrestrial Animal Health Code.

Timetable:

Action | Date | FR Cite
NPRM | 07/18/16 | 81 FR 46619
NPRM Comment Period End | 09/16/16
Final Rule | 08/00/21

Regulatory Flexibility Analysis Required: Yes.

Agency Contact: Alexandra MacKenzie, Veterinary Medical Officer, Animal Permitting and Negotiating Services, NIES, VS, Department of Agriculture, Animal and Plant Health Inspection Service, 4700 River Road, Unit 39, Riverdale, MD 20737, Phone: 301 851-3300.

RIN: 0579-AD10

DEPARTMENT OF AGRICULTURE (USDA)

Animal and Plant Health Inspection Service (APHIS)

Long-Term Actions

13. Importation of Fresh Citrus Fruit From the Republic of South Africa Into the Continental United States

Legal Authority: 7 U.S.C. 450; 7 U.S.C. 7701 to 7772; 7 U.S.C. 7781 to 7786; 21 U.S.C. 136 and 136a

Abstract: This rulemaking will amend the fruits and vegetables regulations to allow the importation of several varieties of fresh citrus fruit, as well as citrus hybrids, into the continental United States from areas in the Republic of South Africa where citrus black spot has been known to occur. As a condition of entry, the fruit will have to be produced in accordance with a systems approach that includes shipment traceability, packinghouse registration and procedures, and phytosanitary treatment. The fruit will also be required to be imported in commercial consignments and accompanied by a phytosanitary certificate issued by the national plant protection organization of the Republic of South Africa with an additional declaration confirming that the fruit has been produced in accordance with the systems approach. This action will allow for the importation of fresh citrus fruit, including citrus hybrids, from the Republic of South Africa while continuing to provide protection against the introduction of plant pests into the United States.

Timetable:

Action | Date | FR Cite
NPRM | 08/28/14 | 79 FR 51273
NPRM Comment Period End | 10/27/14
Next Action Undetermined

Regulatory Flexibility Analysis Required: Yes.

Agency Contact: Tony Román, Phone: 301 851-2242.

RIN: 0579-AD95

14. Horse Protection; Licensing of Designated Qualified Persons and Other Amendments

Legal Authority: 15 U.S.C. 1823 to 1825; 15 U.S.C. 1828

Abstract: We proposed amending the horse protection regulations to provide that the Animal and Plant Health Inspection Service (APHIS) would train and license horse protection inspectors (HPIs) to inspect horses at horse shows, exhibitions, sales, and auctions for compliance with the Horse Protection Act. Those changes to the regulations would strengthen enforcement of the Horse Protection Act and regulations and relieve horse industry organizations or associations of their regulatory burdens and responsibilities. We also proposed establishing a process by which APHIS can deny an application for a HPI license or revoke the license of a HPI who does not meet the minimum requirements, who fails to follow the designated inspection procedures, or who otherwise fails to carry out his or her duties and responsibilities in a satisfactory manner. In addition, we proposed making several changes to the requirements that pertain to the management of any horse show, exhibition, sale, and auction, as well as changes to the list of devices, equipment, substances, and practices that are prohibited to prevent the soring of horses. Finally, we proposed revising the inspection procedures that inspectors are required to perform. These actions would help to protect horses from the cruel and inhumane practice of soring and eliminate unfair competitive advantage that sore horses have over horses that are not sore.

Timetable:

Action | Date | FR Cite
NPRM | 07/26/16 | 81 FR 49111
NPRM Comment Period Extended | 09/22/16 | 81 FR 65307
NPRM Comment Period End | 10/26/16
Next Action Undetermined

Regulatory Flexibility Analysis Required: Yes.

Agency Contact: Aaron Rhyner, Phone: 970 494-7484.

RIN: 0579-AE19

15. National List of Reportable Animal Diseases

Legal Authority: 7 U.S.C. 8301 to 8317

Abstract: This rulemaking amends our disease regulations to provide for a National List of Reportable Animal Diseases, along with reporting responsibilities for animal health professionals that encounter or suspect cases of communicable animal diseases and disease agents. The changes are necessary to streamline State and Federal cooperative animal disease detection, response, and control efforts. This action will consolidate and enhance current disease reporting mechanisms, and it will complement and supplement existing animal disease tracking and reporting at the State level.

Timetable:

Action | Date | FR Cite
NPRM | 04/02/20 | 85 FR 18471
NPRM Comment Period End | 06/01/20
NPRM Comment Period Reopened | 08/18/20 | 85 FR 50796
NPRM Comment Period Reopened End | 08/21/20
Final Action | To Be Determined

Regulatory Flexibility Analysis Required: Yes.

Agency Contact: Jane Rooney, Phone: 970 494-7397.

RIN: 0579-AE39

16. Requiring Microchipping, Verifiable Signatures, Government Official Endorsement, and Mandatory Forms for Importation of Live Dogs

Legal Authority: 7 U.S.C. 2131 to 2159

Abstract: We are proposing to amend the regulations regarding the importation of live dogs by requiring all live dogs imported into the United States for resale purposes to be microchipped for permanent identification, and to require importers to procure a microchip reader and make it available to port-of-entry officials as requested. This action would also add microchipping as one of three identification options for dogs and cats used by dealers, exhibitors and research facilities. In addition, APHIS is proposing to require a verifiable signature on the health certificate and rabies certificate accompanying imported live dogs, an endorsement of the health certificate by a government official in the country of origin, and the mandatory use of forms provided by APHIS.

Timetable:

Action | Date | FR Cite
NPRM | To Be Determined

Regulatory Flexibility Analysis Required: Yes.

Agency Contact: Elizabeth Theodorson, Phone: 970 494-7473.

RIN: 0579-AE58

DEPARTMENT OF AGRICULTURE (USDA)

Animal and Plant Health Inspection Service (APHIS)

Completed Actions

17. Animal Welfare: Marine Mammals; Nonconsensus Language and Interactive Programs

Legal Authority: 7 U.S.C. 2131 to 2159

Abstract: This rulemaking would have amended the Animal Welfare Act regulations concerning the humane handling, care, treatment, and transportation of marine mammals in captivity. These proposed changes would have affected sections in the regulations relating to variances and implementation dates, indoor facilities, outdoor facilities, and water quality. It would also have revised the regulations that relate to swim-with-the-dolphin programs. We believed these actions were necessary to ensure that the minimum standards for the humane handling, care, treatment, and transportation of marine mammals in captivity were based on current industry standards and scientific knowledge and experience. The action is being withdrawn due to the age of the analyses on which it relies.

Completed:

Reason | Date | FR Cite
Withdrawn | 04/19/21

Regulatory Flexibility Analysis Required: Yes.

Agency Contact: Barbara Kohn, Phone: 301 851-3751.

RIN: 0579-AB24

18. Removal of Emerald Ash Borer Domestic Quarantine Regulations

Legal Authority: 7 U.S.C. 7701 to 7772; 7 U.S.C. 7781 to 7786

Abstract: This rulemaking removes the domestic quarantine regulations for the plant pest emerald ash borer. This action will discontinue the domestic regulatory component of the emerald ash borer program as a means to more effectively direct available resources toward management and containment of the pest. Funding previously allocated to the implementation and enforcement of these domestic quarantine regulations will instead be directed to non-regulatory options to mitigate and control the pest.

Completed:

Reason | Date | FR Cite
Final Rule | 12/15/20 | 85 FR 81085
Final Rule Effective | 01/14/21

Regulatory Flexibility Analysis Required: Yes.

Agency Contact: Herbert Bolton, Phone: 301 851-3594.

RIN: 0579-AE42

BILLING CODE 3410-34-P

DEPARTMENT OF AGRICULTURE (USDA)

Food and Nutrition Service (FNS)

Proposed Rule Stage

19. Strengthening Integrity and Reducing Retailer Fraud in the Supplemental Nutrition Assistance Program (SNAP)

Legal Authority: Pub. L. 113-79; Pub. L. 115-334

Abstract: This proposed rule would implement statutory provisions of the Food, Conservation, and Energy Act of 2008 (the 2008 Farm Bill), the Agriculture Improvement Act of 2018 (the 2018 Farm Bill), and other language intended to deter retailer fraud, abuse, and non-compliance in the Supplemental Nutrition Assistance Program (SNAP).

Timetable:

Action | Date | FR Cite
NPRM | 03/00/22

Regulatory Flexibility Analysis Required: Yes.

Agency Contact: Charles H. Watford, Regulatory Review Specialist, Department of Agriculture, Food and Nutrition Service, 1320 Braddock Place, Alexandria, VA 22314, Phone: 703 605-0800, Email: charles.watford@usda.gov.

Maureen Lydon, Department of Agriculture, Food and Nutrition Service, 1320 Braddock Place, Alexandria, VA 22314, Phone: 703 457-7713, Email: maureen.lydon@usda.gov.

RIN: 0584-AE71

20. • Special Supplemental Nutrition Program for Women, Infants and Children (WIC): WIC Online Ordering and Transactions

Legal Authority: Pub. L. 111-296

Abstract: This rule addresses key regulatory barriers to online ordering in the WIC Program by making changes to the provisions that prevent online transactions and types of online capable stores from participating in the Program. This rule will also allow FNS to modernize WIC vendor regulations that do not reflect current technology and facilitate the Program's transition to EBT.

Timetable:

Action | Date | FR Cite
NPRM | 11/00/21

Regulatory Flexibility Analysis Required: Yes.

Agency Contact: Michael DePiro, Department of Agriculture, Food and Nutrition Service, 1320 Braddock Place, Alexandria, VA 22314, Phone: 703 305-2876, Email: michael.depiro@usda.gov.

Maureen Lydon, Department of Agriculture, Food and Nutrition Service, 1320 Braddock Place, Alexandria, VA 22314, Phone: 703 457-7713, Email: maureen.lydon@usda.gov.

RIN: 0584-AE85

DEPARTMENT OF AGRICULTURE (USDA)

Food and Nutrition Service (FNS)

Long-Term Actions

21. National School Lunch and School Breakfast Programs: School Food Service Account Revenue Amendments Related to the Healthy, Hunger-Free Kids Act of 2010

Legal Authority: Pub. L. 111-296

Abstract: This rule amends National School Lunch Program (NSLP) regulations to conform to requirements contained in the Healthy, Hunger-Free Kids Act of 2010 regarding equity in school lunch pricing and revenue from non-program foods sold in schools. This rule requires school food authorities (SFAs) participating in the NSLP to provide the same level of financial support for lunches served to students who are not eligible for free or reduced price lunches as is provided for lunches served to students eligible for free lunches. This rule also requires that all food sold in a school and purchased with funds from the nonprofit school food service account other than meals and supplements reimbursed by the Department of Agriculture must generate revenue at least proportionate to the cost of such foods.

Timetable:

Action | Date | FR Cite
Interim Final Rule | 06/17/11 | 76 FR 35301
Interim Final Rule Effective | 07/01/11
Interim Final Rule Comment Period End | 09/15/11
Next Action Undetermined

Regulatory Flexibility Analysis Required: Yes.

Agency Contact: Michael DePiro, Phone: 703 305-2876, Email: michael.depiro@usda.gov.

Maureen Lydon, Phone: 703 457-7713, Email: maureen.lydon@usda.gov.

RIN: 0584-AE11

22. Modernizing Supplemental Nutrition Assistance Program (SNAP) Benefit Redemption Systems

Legal Authority: Pub. L. 113-79

Abstract: The Agricultural Act of 2014 (Pub. L. 113-79, the Farm Bill) amended the Food and Nutrition Act of 2008 (the FNA) to include new requirements regarding the acceptance and processing of SNAP client benefits by all non-exempt retailers participating in SNAP. Statutory changes will modernize EBT systems and ensure greater program integrity. The Food and Nutrition Service (FNS) proposes to revise certain SNAP regulations for which multiple State agencies have sought and received approval of waivers. The revisions would streamline program administration, offer greater flexibility to State agencies, and improve customer service.

Timetable: Next Action Undetermined.

Regulatory Flexibility Analysis Required: Yes.

Agency Contact: Charles H. Watford, Phone: 703 605-0800, Email: charles.watford@usda.gov.

Maureen Lydon, Phone: 703 457-7713, Email: maureen.lydon@usda.gov.

RIN: 0584-AE37

23. Supplemental Nutrition Assistance Program (SNAP): Electronic Benefits Transfer Requirements for Scanning and Product-Lookup Technology

Legal Authority: Pub. L. 113-79

Abstract: This rule will align program regulations with changes made by section 4002 of the Agricultural Act of 2014 (Pub. L. 113-79, the Farm Bill), which introduced new technical requirements for point-of-sale (POS) devices in the Electronic Benefits Transfer (EBT) system in section 7(h)(2)(C) of the Food and Nutrition Act of 2008 (the FNA). The Food and Nutrition Service (FNS) will propose to revise existing regulations both to codify these statutory requirements as well as to provide for their effective implementation and enforcement through the clarification of the technical specifications and capabilities required of this equipment and by addressing methods for ensuring compliance. In addition, USDA will define what constitutes an area that has significantly limited access to food to determine who is exempt from this requirement.

Timetable: Next Action Undetermined.

Regulatory Flexibility Analysis Required: Yes.

Agency Contact: Charles H. Watford, Phone: 703 605-0800, Email: charles.watford@usda.gov.

Maureen Lydon, Phone: 703 457-7713, Email: maureen.lydon@usda.gov.

RIN: 0584-AE39

24. National School Lunch and School Breakfast Programs: Nutrition Standards for all Foods Sold in School, as Required by the Healthy, Hunger-Free Kids Act of 2010

Legal Authority: Pub. L. 111-296

Abstract: This rule codifies a provision of the Healthy, Hunger-Free Kids Act (Pub. L. 111-296; the Act) under 7 CFR parts 210 and 220. Section 208 requires the Secretary to promulgate regulations to establish science-based nutrition standards for all foods sold in schools. The nutrition standards apply to all food sold outside the school meal programs, on the school campus, and at any time during the school day.

Timetable: Next Action Undetermined.

Regulatory Flexibility Analysis Required: Yes.

Agency Contact: Michael DePiro, Phone: 703 305-2876, Email: michael.depiro@usda.gov.

Maureen Lydon, Phone: 703 457-7713, Email: maureen.lydon@usda.gov.

RIN: 0584-AE55

25. Providing Regulatory Flexibility for Retailers in the Supplemental Nutrition Assistance Program (SNAP)

Legal Authority: Pub. L. 113-79; 7 U.S.C. 2011 to 2036

Abstract: The Agricultural Act of 2014 amended the Food and Nutrition Act of 2008 to increase the requirement that certain Supplemental Nutrition Assistance Program (SNAP) authorized retail food stores have available on a continuous basis at least three varieties of items in each of four staple food categories, to a mandatory minimum of seven varieties. The Food and Nutrition Service (FNS) codified these mandatory requirements. Subsequent annual Agency appropriations bill language prohibited implementation of certain final rule provisions. In response, this change will provide some retailers participating in SNAP as authorized food stores with more flexibility in meeting the enhanced SNAP eligibility requirements.

Timetable:

Action | Date | FR Cite
NPRM | 04/05/19 | 84 FR 13555
NPRM Comment Period End | 06/04/19
NPRM Comment Period Reopened | 06/14/19 | 84 FR 27743
NPRM Comment Period Reopen End | 06/20/19
Next Action Undetermined

Regulatory Flexibility Analysis Required: Yes.

Agency Contact: Charles H. Watford, Phone: 703 605-0800, Email: charles.watford@usda.gov.

Maureen Lydon, Phone: 703 457-7713, Email: maureen.lydon@usda.gov.

RIN: 0584-AE61

BILLING CODE 3410-30-P

DEPARTMENT OF AGRICULTURE (USDA)

Forest Service (FS)

Long-Term Actions

26. Special Uses—Communications Uses Rent

Legal Authority: 43 U.S.C. 1761 to 1771

Abstract: Consistent with the requirement in title V, section 504 (g) of the Federal Land Policy and Management Act, the proposed rule would update the Forest Service's rental fee schedule for communications uses based on market value. Updated rental fees that exceed 100 percent of current rental fees would be phased in over a 3-year period. USDA is coordinating development of the information base to support this rulemaking with the Department of the Interior.

Timetable: Next Action Undetermined.

Regulatory Flexibility Analysis Required: Yes.

Agency Contact: Edwina Howard-Agu, Phone: 202 205-1419, Email: edwina.howard-agu@usda.gov.

RIN: 0596-AD43

[FR Doc. 2021-15083 Filed 7-29-21; 8:45 am]

BILLING CODE 3410-11-P